DEPARTMENT OF COMMERCE

National Oceanic and Atmospheric Administration

[Docket No. 060724199-6199-01]

Virginia Sea Grant Institutional Program

AGENCY: National Oceanic and Atmospheric Administration (NOAA), Department of Commerce (DOC).

ACTION: Notice of availability of funds.

SUMMARY: NOAA's Office of Oceanic and Atmospheric Research (OAR), National Sea Grant College Program invites applications to establish an Institutional Sea Grant Program for the Commonwealth of Virginia beginning in FY 2007. Anticipated start date is February 1, 2007. Applicants should provide a four-year plan for an institutional program that will be part of the larger National Sea Grant network, a partnership between the federal government and universities to conduct integrated research, education and outreach in fields related to ocean, coastal and Great Lakes resources. Applicants must comply with all requirements contained in the full funding opportunity announcement.

DATES: Proposals must be received no later than 5 p.m. Eastern Standard Time, September 15, 2006.

ADDRESSES: Proposals should be submitted through Grants.Gov, following the directions in Electronic Access, below. Proposals from those that do not have access to Internet should be sent to: Geraldine Taylor, NOAA R/SG; 1315 East-West Highway, Bldg SSMC 3, Room 11828, Silver Spring, MD 20910-3283, tel. 301-713-2435.

This Federal Register notice may be found at the Grants.gov Web site, http://www.grants.gov, and at the NOAA Sea Grant Web site (http://www.seagrant.noaa.gov) by clicking on the “View Requests for Proposals” button.

No e-mail or facsimile proposal submissions will be accepted.

FOR FURTHER INFORMATION CONTACT: For a copy of the full funding opportunity announcement and/or application kit, access it at Grants.gov, via NOAA Sea Grant's Web site, or by contacting Ms. Jamie Krauk, NOAA R/SG, 1315 East West Highway, Silver Spring, MD 20910-3283, telephone: 301-713-2431 x129, e-mail: jamie.krauk@noaa.gov.

SUPPLEMENTARY INFORMATION: Applicants must comply with all requirements contained in the full funding opportunity announcement. This notice describes funding opportunities for the NOAA Office of Oceanic and Atmospheric Research, National Sea Grant College Program.

Background

The National Sea Grant College Program (NSGCP) was established by Congress to promote responsible use and conservation of the nation's marine and Great Lakes resources by conducting integrated research and outreach through a stable national infrastructure of state Sea Grant programs. The mission of the NSGCP is to “Enhance the practical use and conservation of coastal, marine and Great Lakes resources to create a sustainable economy and environment.” To accomplish this mission, the NSGCP is soliciting applications for a new Sea Grant institutional program for the Commonwealth of Virginia.

Electronic Access

As has been the case since October 1, 2004, applicants can access, download and submit electronic grant applications for NOAA Programs through the Grants.gov Web site at http://www.Grants.gov. Applicants without Internet access may contact program officials for applications and submission instructions. The closing dates for applications filed through Grants.gov are the same as for the paper submissions noted in this announcement. For applicants filing through Grants.gov, NOAA strongly recommends that you do not wait until the application deadline date to begin the application process. Registration may take up to 10 business days.

Funding Availability

NOAA expects that about $1.4M will be available from the NSGCP to establish a new Sea Grant institutional program for the Commonwealth of Virginia beginning in FY 2007. NOAA anticipates continuing support at that level from FY 2008-FY 2010 if funds are available.

Funding Opportunity Number: OAR-SG-2007-2000807.

Statutory Authority: 33 U.S.C. 1121-1131.

CFDA: 11.417, Sea Grant Support.

Eligibility

Proposals may be submitted by institutions of higher education, or confederations of such institutions in the state of Virginia.

Cost Sharing Requirements

To be eligible for the NSGCP funds, a match of 50% of the requested Federal funds (direct and indirect costs) is needed. Sea Grant requires that funds be matched with at least one non-Federal dollar for every two Federal dollars.

Intergovernmental Review

Applications under this program are not subject to Executive Order 12372, “Intergovernmental Review of Federal Programs.”

Evaluation Criteria and Review and Selection Procedures

A. Evaluation Criteria

Applicants must be rated highly (7 or greater on a scale of 1-10) in each of the following qualifying areas:

(1) Leadership. Is the candidate an intellectual and practical leader in marine science, engineering, education, and advisory service in its state and region? (10 points)

(2) Organization. Has the candidate created the necessary management organization to carry on a viable and productive Sea Grant Program, and does the candidate have backing of its administration at a sufficiently high level to fulfill its multidisciplinary and multifaceted mandate? (10 points)

(3) Relevance. Is the candidate's program relevant to local, State, regional, or National opportunities and problems in the marine environment? Important factors in evaluating relevance are the presence of an emphasis on marine resources, and the extent to which capabilities have been developed to be responsive to that need. (10 points)

(4) Programmed team approach. Does the candidate have a programmed team approach to solving marine problems, which includes relevant, high quality, multidisciplinary research with associated educational and advisory services capable of producing identifiable results? (10 points)

(5) Education and training. Is education and training clearly relevant to National, regional, State and local needs in fields related to ocean, Great Lakes, and coastal resources? (Education may include pre-college, college, post-graduate, public and adult levels.) (10 points)

(6) Advisory services. Does the candidate have a strong program through which information, techniques and research results from any reliable source, domestic or international, are communicated to, and utilized by, user communities? In addition to the educational and information dissemination role, does the advisory service program aid in the identification and communication of user communities' research and educational needs? (10 points)

(7) Relationships. Does the candidate have close ties with Federal agencies, State agencies and administrations, local authorities, business and industry, and other educational institutions? Do these ties: (i) Ensure the relevance of its programs, (ii) give assistance to the broadest possible audience, (iii) involve a broad pool of talent in providing assistance and (iv) assist others in developing research and management competence? (The extent and quality of an institution's relationships are critical factors in evaluating the institutional program) (10 points)

(8) Productivity. Does the candidate have substantial strength in the three basic Sea Grant activities: Research, education and training, and advisory services? (10 points)

(9) Support. Does the candidate have the ability to obtain matching funds from non-Federal sources, such as state legislatures, university management, state agencies, business, and industry? A diversity of matching fund sources is encouraged as a sign of program vitality and the ability to meet the Sea Grant requirement that funds for the general programs be matched with at least one non-Federal dollar for every two Federal dollars. (10 points)

(10) Continuity of high performance. Does the candidate demonstrate the ability to continue the pursuit of excellence and sustain the following? (i) high performance in marine research, education, training, and advisory services; (ii) leadership in marine activities including coordinated planning and cooperative work with local, state, regional, and Federal agencies, other Sea Grant programs, and non-Sea Grant universities; (iii) effective management framework and application of institutional resources to the achievement of Sea Grant objectives; (iv) long-term plans for research, education, training, and advisory services consistent with Sea Grant goals and objectives; (v) furtherance of the Sea Grant concept and the full development of its potential within the institution and the state; (vi) adequate and stable matching financial support for the program from non-Federal sources; and (vii) effective system to control the quality of its Sea Grant programs. (10 points)

B. Review and Selection Process

An initial administrative review/screening will be conducted to determine compliance with requirements/completeness. All proposals will be evaluated and individually ranked in accordance with the assigned scale of the above evaluation criteria by an independent peer panel review. At least three experts, who may be Federal or non-Federal, will be used in this process. If non-Federal experts participate in the review process, all panelists will submit individual reviews and not a consensus opinion. The reviewers' ratings will be used to rank the proposals in order. The Director of the NSGCP will make the final selection after considering the panel reviews. If an award is made, the Director will award in rank order.

Universal Identifier

Applicants should be aware that they are required to provide a Dun and Bradstreet Data Universal Numbering System (DUNS) number during the application process. See the October 30, 2002 Federal Register, (69 FR 66177) for additional information. Organizations can receive a DUNS number at no cost by calling the dedicated toll-free DUNS Number request line at 1-866-705-5711 or via the Internet http://www.dunandbradstreet.com.

National Environmental Policy Act (NEPA)

NOAA must analyze the potential environmental impacts, as required by the National Environmental Policy Act (NEPA), for applicant projects or proposals that are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toclceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of not selecting an application. In some cases if additional information is required after an application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register Notice of December 30, 2004 (69 FR 78389), are applicable to this solicitation.

Limitation of Liability

Funding for programs listed in this notice is contingent upon the availability of fiscal year 2007 appropriations. In no event will NOAA or the Department of Commerce be responsible for application preparation costs if these programs fail to receive funding or are cancelled because of other agency priorities. Publication of this announcement does not oblige NOAA to award any specific project or to obligate any available funds.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)).

Because notice and opportunity for comment are not required pursuant to 5 U.S.C. 553 or any other law, the analytical requirements of the Regulatory Flexibility Act (5 U.S.C. 601 et seq.) are inapplicable. Therefore, a regulatory flexibility analysis has not been prepared.

Dated: July 27, 2006.
Mark E. Brown,
Chief Financial Officer, Office of Oceanic and Atmospheric Research, National Oceanic and Atmospheric Administration.

[FR Doc. E6-12286 Filed 7-31-06; 8:45 am]

BILLING CODE 3510-DS-P